COMMISSION ON CIVIL RIGHTS

Agenda and Notice of Public Meeting of the Delaware Advisory Committee

AGENCY: Commission on Civil Rights.

ACTION: Announcement of meetings.

SUMMARY: Notice is hereby given, pursuant to the provisions of the rules and regulations of the U.S. Commission on Civil Rights (Commission), and the Federal Advisory Committee Act (FACA), that the Delaware Advisory Committee to the Commission will hold virtual meetings on the first Wednesdays of each month beginning at 1:00 p.m. and ending at approximately 2 p.m. ET (may end sooner than 2 p.m. if business concludes) as follows: October 5, November 2, and December 7, 2022. The purpose of the meetings is to continue discussing report progression on the topic of COVID 19 and health disparities.

DATES: 10/5/22, 11/2/22, and 12/7/22; 1 p.m. ET.

The access information for all meetings is as follows:

• To join by web conference: https://tinyurl.com/2sstbf6v.

• To join by phone only, dial 1-551-285-1373; Access code: 160 832 3278#.

FOR FURTHER INFORMATION CONTACT: Ivy L. Davis, at ero@usccr.gov or by phone at 202-376-7533.

SUPPLEMENTARY INFORMATION: These meetings are available to the public through the Zoom link or phone number above. If joining only via phone, callers can expect to incur charges for calls they initiate over wireless lines, and the Commission will not refund any incurred charges.

Individuals who are deaf, deafblind and hard of hearing. may also follow the proceedings by first calling the Federal Relay Service at 1-800-877-8339 and providing the Service with the call-in number found through registering at the web link provided for each meeting.

Members of the public are entitled to make comments during the open period at the end of each meeting. Members of the public may also submit written comments; the comments must be received in the Regional Programs Unit within 30 days following the respective meeting. Written comments may be emailed to Ivy David at ero@usccr.gov. Persons who desire additional information may contact the Regional Programs Unit at (202) 809-9618.

Records and documents discussed during the meeting will be available for public viewing as they become available at www.facadatabase.gov. Persons interested in the work of this advisory committee are advised to go to the Commission's website, www.usccr.gov, or to contact the Regional Programs Unit at the above phone number or email address.

Agenda

Wednesdays at 1 p.m. (ET): 10/5, 11/2, and 12/7/22

I. Welcome and Roll Call

II. Project Planning and Report Discussion

III. Other Business

IV. Next Planning Meeting

V. Public Comments

VI. Adjourn

Dated: September 12, 2022.
David Mussatt,
Supervisory Chief, Regional Programs Unit.

[FR Doc. 2022-19963 Filed 9-14-22; 8:45 am]

BILLING CODE P